DEPARTMENT OF TRANSPORTATION

Federal Aviation Administration

14 CFR Part 39

[Docket No. FAA-2005-20512; Directorate Identifier 2004-SW-35-AD]

RIN 2120-AA64

Airworthiness Directives; Eurocopter France Model EC 155B, EC155B1, SA-365N, SA-365N1, AS-365N2, and AS 365 N3 Helicopters

AGENCY: Federal Aviation Administration, DOT.

ACTION: Notice of proposed rulemaking (NPRM).

SUMMARY: This document proposes superseding an existing airworthiness directive (AD) that applies to Eurocopter France (Eurocopter) Model EC 155B, SA-365N and N1, AS-365N2, and AS 365 N3 helicopters. That AD currently requires inspecting the hydraulic brake hose (hose) for crazing, pinching, distortion, or leaks at the torque link hinge and replacing the hose, if necessary. That AD also requires inspecting the hose and the emergency flotation gear pipe to ensure adequate clearance, and adjusting the landing gear leg, if necessary. This action would require the same actions as the existing AD and would add a model to the applicability. This proposal is prompted by notification by the manufacturer and the European Authority that another affected model helicopter, the Model EC155B1, may have the same unsafe condition and should be added to the existing AD. The actions specified by the proposed AD are intended to prevent failure of a hose, resulting in failure of hydraulic pressure to the brakes on the affected landing gear wheel, and subsequent loss of control of the helicopter during a run-on landing.

DATES: Comments must be received on or before May 9, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from American Eurocopter Corporation, 2701 Forum Drive, Grand Prairie, Texas 75053-4005, telephone (972) 641-3460, fax (972) 641-3527.

You may examine the comments to this proposed AD in the AD docket on the Internet at http://dms.dot.gov.

FOR FURTHER INFORMATION CONTACT: Uday Garadi, Aviation Safety Engineer, FAA, Rotorcraft Directorate, Safety Management Group, Fort Worth, Texas 76193-0110, telephone (817) 222-5123, fax (817) 222-5961.

SUPPLEMENTARY INFORMATION:

Comments Invited

We invite you to submit any written data, views, or arguments regarding this proposed AD. Send your comments to the address listed under the caption ADDRESSES. Include the docket number “FAA-2005-20512, Directorate Identifier 2004-SW-35-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

On August 26, 2003, we issued AD 2003-18-03, Amendment 39-13294 (68 FR 52832, September 8, 2003). That AD requires, within the next 10 hours time-in-service (TIS), inspecting the hose for crazing, pinching, distortion, or leaks at the torque link hinge and replacing the hose before further flight, if necessary. AD 2003-18-03 also requires, at the next 100-hour TIS inspection, inspecting the hose and the emergency flotation gear pipe to ensure adequate clearance, and adjusting the landing gear leg, if necessary. That action was prompted by a report of a hose compression due to interference with a clamp that attaches the emergency flotation gear pipe. The requirements of that AD are intended to prevent failure of a hose, resulting in failure of hydraulic pressure to the brakes on the affected landing gear wheel, and subsequent loss of control of the helicopter during a run-on landing.

Since issuing that AD, the manufacturer has issued a revision to its Alert Service Bulletin No. 32A004 to now include the Model EC155B1 helicopters that we did not include in the applicability of that AD.

The Direction Generale De L'Aviation Civile (DGAC), the airworthiness authority for France, has notified the FAA that an unsafe condition may exist on Eurocopter Model EC 155 B1 helicopters as well as the other affected model helicopters. The DGAC has advised in AD No. F-2004-099, dated July 7, 2004, that a report of a wheel brake hose compression due to interference with a clamp that attaches the emergency flotation gear pipe led to the issue of AD No. 2002-475-007, which defined measures applicable to EC 155 version B aircraft. DGAC AD No. 2002-475-007 was cancelled by its Revision 1, and the DGAC issued AD No. F-2004-099, dated July 7, 2004, which supersedes and covers the requirements of AD 2002-475-007, extends its affectivity to EC 155 version B1 aircraft, and refers to revised service information, with no change to the technical content. The DGAC issued that AD after Eurocopter issued Alert Service Bulletin No. 32A004, Revision 1, dated June 16, 2004. The revised service bulletin added the Eurocopter Model EC155B1 to it's applicability but didn't change any technical content.

Eurocopter has also replaced Alert Telex No. 32.00.09, dated July 31, 2002, with Alert Service Bulletin No. 32.00.09, dated October 27, 2003. The service bulletin applies to Eurocopter Model SA-365N, SA-365N1, AS-365N2, and AS 365 N3 helicopters and was issued to replace Alert Telex No. 32.00.09, dated July 31, 2002, and contained no technical changes. The DGAC classified this service bulletin as mandatory and issued AD No. F-2002-474-058 R1, dated March 3, 2004. The proposed AD contains references to both of these revised documents.

These helicopter models are manufactured in France and are type certificated for operation in the United States under the provisions of 14 CFR 21.29 and the applicable bilateral agreement. Pursuant to the applicable bilateral agreement, the DGAC has kept us informed of the situation described above. We have examined the findings of the DGAC, reviewed all available information, and determined that AD action is necessary for products of these type designs that are certificated for operation in the United States.

This previously described unsafe condition is likely to exist or develop on other helicopters of the same type designs. Therefore, the proposed AD would supersede AD 2003-18-03. The proposed AD would add the Eurocopter Model EC155B1 helicopters to the applicability and continue to require, within the next 10 hours TIS, inspecting the hose for crazing, pinching, distortion, or leaks at the torque link hinge and replacing the hose before further flight, if necessary. The proposed AD would also continue to require, at the next 100-hour TIS inspection, inspecting the hose and the emergency flotation gear pipe to ensure adequate clearance, and adjusting the landing gear leg, if necessary. The inspections would have to be done in accordance with the alert service bulletins described previously.

We estimate that this proposed AD would affect 48 helicopters of U.S. registry. It would take approximately 5 work hours per helicopter to accomplish each inspection and 5 work hours to replace any parts, as necessary. The average labor rate is $65 per work hour. Required parts would cost approximately $459 for the hose; if replacing the hose on two sides is required, the cost would be approximately $918. Based on these figures, the total cost impact of the proposed AD on U.S. operators is estimated to be $1,568 per helicopter, or $56,448 for the entire fleet, assuming 75 percent of the fleet (36 helicopters) is equipped with emergency flotation gear, that one inspection is done, and that the hose on two sides is replaced on those 36 helicopters).

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-13294 (68 FR 52832, September 8, 2003), and by adding a new airworthiness directive (AD), to read as follows:

Eurocopter France: Docket No. FAA-2005-20512; Directorate Identifier 2004 SW-35. Supersedes AD 2003-18-03, Amendment 39-13294, Docket No. 2002-SW-53-AD.

Applicability: Model EC 155B, EC155B1, SA-365N, SA-365N1, AS-365N2, and AS 365 N3 helicopters, with emergency flotation gear installed, certificated in any category.

Compliance: Required as indicated, unless accomplished previously.

To prevent failure of a hydraulic brake hose (hose), resulting in failure of hydraulic pressure to the brakes on the affected landing gear wheel and subsequent loss of control of the helicopter during a run-on landing, accomplish the following:

(a) Within 10 hours time-in-service (TIS), inspect the hose for crazing, pinching, distortion, or leaks as illustrated in Area A of Figure 1 of Eurocopter Alert Service Bulletin No. 32.00.09, dated October 27, 2003 (ASB No. 32.00.09), for Model SA-365N and N1, AS-365N2, and AS 365 N3 helicopters, and Eurocopter Alert Service Bulletin No. 32A004, Revision 1, dated June 16, 2004 (ASB No. 32A004R1), for Model EC 155B and EC155B1 helicopters.

(b) If crazing, pinching, distortion, or leaks exist, replace the hose with an airworthy hose before further flight.

(c) At the next 100-hour TIS inspection, inspect the hose and the emergency flotation gear pipe to ensure adequate clearance and adjust the landing gear leg, if necessary, in accordance with the Operational Procedure, paragraph 2.B.2., of ASB No. 32.00.09 or ASB No. 32A004R1, as applicable.

(d) To request a different method of compliance or a different compliance time for this AD, follow the procedures in 14 CFR 39.19. Contact the Safety Management Group, Rotorcraft Directorate, FAA, for information about previously approved alternative methods of compliance.

Note: The subject of this AD is addressed in Direction Generale De L'Aviation Civile (France) AD No. F-2002-474-058 R1, dated March 3, 2004 and AD No. F-2004-099, dated July 7, 2004.

Issued in Fort Worth, Texas, on March 1, 2005.
David A. Downey,
Manager, Rotorcraft Directorate, Aircraft Certification Service.

[FR Doc. 05-4406 Filed 3-7-05; 8:45 am]

BILLING CODE 4910-13-P